DEPARTMENT OF COMMERCE

National Oceanic and Atmospheric Administration

Proposed Information Collection; Comment Request; Harvest of Pacific Halibut by Guided Sport Charter Vessel Anglers off Alaska

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 18, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Patsy A. Bearden, (907) 586-7008 or Patsy.Bearden@noaa.gov.

SUPPLEMENTARY INFORMATION:

I. Abstract

This request is for renewal of a currently approved information collection.

Pacific halibut is an unusual resource in that halibut management in both State and Federal waters is an international and Federal responsibility under the North Pacific Halibut Act of 1982. Annual catch quotas are determined by the International Pacific Halibut Commission (IPHC), and Federal responsibility for halibut management extends to halibut stocks and fishing activity within State of Alaska waters. In order to manage halibut effectively, international and Federal managers need information on halibut fishing effort and harvest by all user groups, including the guided sport charter sector of the fishery.

In order to minimize the recordkeeping and reporting burden on guided charter operations, Federal and international managers depend on fishing activity and harvest information collected by the State of Alaska through its charter logbook program. Federal regulations at 50 CFR 300.65 require charter vessel operators fishing in IPHC Areas 2C and 3A to comply with the State of Alaska logbook reporting requirements.

The State of Alaska Department of Fish and Game (ADF&G) Division of Sport Fish initiated a mandatory logbook program for charter vessels in 1998 requiring annual registration of sport fishing guides and businesses and logbook reporting. The logbook and registration program was intended to provide information on actual participation and harvest by individual charter vessels and businesses in various regions of the State.

ADF&G issues charter logbooks to licensed businesses only and also provides operators with registration stickers and statistical area maps. A schedule of logbook due dates is printed inside the front cover of each logbook.

NMFS and ADF&G coordinated closely in the development of this information collection to use the existing ADF&G logbook to record information necessary for the monitoring and enforcement of the charter vessel angler daily catch limit of halibut, so that a separate Federal logbook system would not be necessary. This approach reduces burden to both the charter vessel industry and Federal and State management agencies.

II. Method of Collection

The logsheets may be placed in an ADF&G drop box at one of many ports in Alaska or mailed to ADF&G.

III. Data

OMB Control Number: 0648-0575.

Form Number: None.

Type of Review: Regular submission (renewal of a currently approved collection).

Affected Public: Business or other for-profit organizations; individual or households.

Estimated Number of Respondents: 93,090.

Estimated Time Per Response: Charter Guide to record required information in logsheet, 4 minutes; Charter Anglers to verify information and sign logsheet, 1 minute.

Estimated Total Annual Burden Hours: 3,134.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 14, 2010.
Gwellnar Banks,
Management Analyst, Office of the Chief Information Officer.

[FR Doc. 2010-31833 Filed 12-17-10; 8:45 am]

BILLING CODE 3510-22-P